DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and the Code of Federal Regulations govern the application, processing, and disposition of petitions for modification. This Federal Register notice notifies the public that MSHA has investigated and issued a final decision on certain mine operator petitions to modify a safety standard.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2016-031-C.

FR Notice: 81 FR 81810 (11/18/2016).

Petitioner: S & J Coal Mine, 15 Motter Drive, Pine Grove, Pennsylvania 17963-8854.

Mine: Slope #2 Mine, MSHA I.D. No. 36-09963, located in Schuylkill County, Pennsylvania.

Regulation Affected: 30 CFR 75.1002(a) (Installation of electric equipment and conductors; permissibility).

• Docket Number: M-2017-001-C.

FR Notice: 82 FR 16068 (3/31/2017).

Petitioner: Mettiki Coal WV, LLC, 293 Table Rock Road, Oakland, Maryland 21550.

Mine: Mountain View Mine, MSHA I.D. No. 46-09028, located in Tucker County, West Virginia.

Regulation Affected: 30 CFR 75.500(d) (Permissible electric equipment).

• Docket Number: M-2017-002-C.

FR Notice: 82 FR 16068 (3/31/2017).

Petitioner: Mettiki Coal WV, LLC, 293 Table Rock Road, Oakland, Maryland 21550.

Mine: Mountain View Mine, MSHA I.D. No. 46-09028, located in Tucker County, West Virginia.

Regulation Affected: 30 CFR 75.507-1(a) (Electric equipment other than power-connection points; outby the last open crosscut; return air; permissibility requirements).

• Docket Number: M-2017-003-C.

FR Notice: 82 FR 16068 (3/31/2017).

Petitioner: Mettiki Coal WV, LLC, 293 Table Rock Road, Oakland, Maryland 21550.

Mine: Mountain View Mine, MSHA I.D. No. 46-09028, located in Tucker County, West Virginia.

Regulation Affected: 30 CFR 75.1002(a) (Installation of electric equipment and conductors; permissibility).

• Docket Number: M-2017-008-C.

FR Notice: 82 FR 26954 (6/12/2017).

Petitioner: Excel Mining, LLC, 4126 State Highway 194 West, Pikeville, Kentucky 41501.

Mine: Excel Mining #4 Mine, MSHA I.D. No. 15-19515, located in Pike County, Kentucky.

Regulation Affected: 30 CFR 75.1909(b)(6) (Nonpermissible diesel powered equipment; design and performance requirements).

• Docket Number: M-2017-002-M.

FR Notice: 82 FR 34701 (7/26/2017).

Petitioner: Martin Marietta Materials, Inc., Midwest Division, 11252 Aurora Avenue, Des Moines, Iowa 50322.

Mine: Fort Calhoun Underground Mine, 5765 County Road P 30, Fort Calhoun, Nebraska 68023, MSHA I.D. No. 25-01300, located in Washington County, Nebraska.

Regulation Affected: 30 CFR 57.11052(d) (Refuge areas).

Sheila McConnell,
Director, Office of Standards, Regulations, and Variances.

[FR Doc. 2018-04992 Filed 3-12-18; 8:45 am]

BILLING CODE 4520-43-P